SOCIAL SECURITY ADMINISTRATION

[Docket No. SSA-2020-0007]

Privacy Act of 1974; System of Records

AGENCY: Social Security Administration (SSA).

ACTION: Notice of a modified system of records.

SUMMARY: In accordance with the Privacy Act, we are issuing public notice of our intent to modify an existing system of records entitled, Travel and Border Crossing Records (60-0389), last published on March 3, 2019. This notice publishes details of the modified system as set forth under the caption, SUPPLEMENTARY INFORMATION.

DATES: The system of records notice (SORN) is applicable upon its publication in today's Federal Register, with the exception of the routine uses, which are effective March 31, 2021. We invite public comment on the routine uses or other aspects of this SORN. In accordance with 5 U.S.C. 552a(e)(4) and (e)(11), the public is given a 30-day period in which to submit comments. Therefore, please submit any comments by March 31, 2021.

ADDRESSES: The public, Office of Management and Budget (OMB), and Congress may comment on this publication by writing to the Executive Director, Office of Privacy and Disclosure, Office of the General Counsel, SSA, Room G-401 West High Rise, 6401 Security Boulevard, Baltimore, Maryland 21235-6401, or through the Federal e-Rulemaking Portal at http://www.regulations.gov. Please reference docket number SSA-2020-0007. All comments we receive will be available for public inspection at the above address and we will post them to http://www.regulations.gov.

FOR FURTHER INFORMATION CONTACT: Navdeep Sarai, Government Information Specialist, Privacy Implementation Division, Office of Privacy and Disclosure, Office of the General Counsel, SSA, Room G-401 West High Rise, 6401 Security Boulevard, Baltimore, Maryland 21235-6401, telephone: 410-966-5855, email: Navdeep.Sarai@ssa.gov.

SUPPLEMENTARY INFORMATION: We are modifying the system manager to include up-to-date contact information per OMB Circular A-108, “Federal Agency Responsibilities for Review, Reporting, and Publication under the Privacy Act.” We are modifying the policies and practices for retention and disposal of records to include the National Archives and Records Administration (NARA) General Records Schedule (GRS) 4.2 Information Access and Protection Records, Item 130, Personally Identifiable Information Extracts. Lastly, we are modifying the notice throughout to correct miscellaneous stylistic formatting and typographical errors of the previously published notice to ensure the language reads consistently across multiple systems. We are republishing the entire notice for ease of reference.

In an effort to mitigate improper payments, we established the Travel and Border Crossing Records to collect information about applicants, beneficiaries, and recipients under Titles II, XVI, and XVIII who are or have been absent from the United States (U.S.) for certain periods of time. Generally, we rely on individuals to self-report their foreign travel. Oftentimes, we do not receive these reports or we receive them untimely, which results in improper payments. In general, we suspend Title II benefits to aliens who remain outside of the U.S. for more than six consecutive calendar months. We generally suspend Title II benefits to both U.S. citizens and non-U.S. citizens who travel to a country where payment is restricted by the U.S. Additionally, we suspend Title XVI payments to both citizen and non-citizen recipients who are outside of the U.S. for a full calendar month or 30 consecutive days or longer. SSA is not responsible for making Title XVIII payment determinations on claims for services submitted to the Centers for Medicare and Medicaid Services. However, the information collected in this system will be used for two purposes relating to Title XVIII. First, because Medicare enrollment criteria requires residence in the U.S., SSA will use this information to make initial and reconsideration decisions on Medicare entitlement claims. Second, SSA will use this information to make determinations on physical presence in the U.S. and will update the Master Beneficiary Record (MBR) system of records with those determinations. The Centers for Medicare and Medicaid Services may use information from the MBR in making decisions on whether a Medicare claim can be paid.

In accordance with 5 U.S.C. 552a(r), we provided a report to OMB and Congress on this modified system of records.

Matthew Ramsey,
Executive Director, Office of Privacy and Disclosure, Office of the General Counsel.

System Name and Number

Travel and Border Crossing Records, 60-0389.

SECURITY CLASSIFICATION:

Unclassified.

SYSTEM LOCATION:

Social Security Administration, Deputy Commissioner of Operations, Office of Electronic Services and Technology, Division of Programmatic Applications, 6401 Security Boulevard, Baltimore, MD 21235.

SYSTEM MANAGER(S):

Social Security Administration, Deputy Commissioner of Operations, Office of Electronic Services and Technology, Division of Programmatic Applications, 6401 Security Boulevard, Baltimore, MD 21235, 410-965-5855

AUTHORITY FOR MAINTENANCE OF THE SYSTEM:

Sections 202(n), (t), and (y), 1611(f), 1818 and 1836 of the Social Security Act (42 U.S.C. 402(n), (t), and (y), 1382(f), 1395i-2, and 1395o); 8 U.S.C. 1373(c).

PURPOSE(S) OF THE SYSTEM:

We will use the information in this system to identify applicants, beneficiaries, and recipients under Titles II, XVI, and XVIII of the Social Security Act who have had absences from the U.S. to establish or verify initial or ongoing entitlement to or eligibility for benefits or payments under Titles II, XVI, and XVIII of the Social Security Act.

CATEGORIES OF INDIVIDUALS COVERED BY THE SYSTEM:

Applicants, recipients, and beneficiaries under Titles II, XVI, and XVIII of the Social Security Act.

CATEGORIES OF RECORDS IN THE SYSTEM:

This system maintains information collected about applicants, recipients, or beneficiaries under Titles II, XVI, and XVIII of the Social Security Act who have had absences from the U.S. The information may include name, Social Security number (SSN), date of birth, gender, country of citizenship, country of travel, deportation information, alien registration number, immigration document type and number, travel mode, date and time of departure from the U.S., and date and time of arrival into the U.S.

RECORD SOURCE CATEGORIES:

We obtain information in this system from applicants, recipients, and beneficiaries under Titles II, XVI and XVIII of the Social Security Act, and from the Department of Homeland Security, Customs and Border Protection's Arrival and Departure Information System under established data exchange agreements.

ROUTINE USES OF RECORDS MAINTAINED IN THE SYSTEM, INCLUDING CATEGORIES OF USERS AND THE PURPOSES OF SUCH USES:

We will disclose records pursuant to the following routine uses, however, we will not disclose any information defined as “return or return information” under 26 U.S.C. 6103 of the Internal Revenue Code, unless authorized by statute, the Internal Revenue Service (IRS), or IRS regulations.

1. To a congressional office in response to an inquiry from that office made on behalf of, and at the request of, the subject of the record or third party acting on the subject's behalf.

2. To the Office of the President in response to an inquiry from that office made on behalf of, and at the request of, the subject of the record or a third party acting on the subject's behalf.

3. To the National Archives and Records Administration (NARA) under 44 U.S.C. 2904 and 2906.

4. To appropriate agencies, entities, and persons when:

(a) SSA suspects or has confirmed that there has been a breach of the system of records;

(b) SSA has determined that as a result of the suspected or confirmed breach, there is a risk of harm to individuals, SSA (including its information systems, programs, and operations), the Federal Government, or national security; and

(c) the disclosure made to such agencies, entities, and persons is reasonably necessary to assist in connections with SSA's efforts to respond to the suspected or confirmed breach or to prevent, minimize, or remedy such harm.

5. To another Federal agency or Federal entity, when SSA determines that information from this system of records is reasonably necessary to assist the recipient agency or entity in:

(a) Responding to a suspected or confirmed breach; or

(b) preventing, minimizing, or remedying the risk of harm to individuals, the recipient agency or entity (including its information systems, programs, and operations), the Federal Government, or national security, resulting from a suspected or confirmed breach.

6. To the Department of Justice (DOJ), a court or other tribunal, or another party before such court or tribunal, when:

(a) SSA, or any component thereof; or

(b) any SSA employee in his/her official capacity; or

(c) any SSA employee in his/her individual capacity where DOJ (or SSA, where it is authorized to do so) has agreed to represent the employee; or

(d) the United States or any agency thereof where SSA determines the litigation is likely to affect SSA or any of its components,

is a party to the litigation or has an interest in such litigation, and SSA determines that the use of such records by DOJ, a court or other tribunal, or another party before the tribunal is relevant and necessary to the litigation, provided, however, that in each case, the agency determines that disclosures of the records to DOJ, court or other tribunal, or another party is a use of the information contained in the records that is compatible with the purpose for which the records were collected.

7. To Federal, State and local law enforcement agencies and private security contractors, as appropriate, information necessary:

(a) To enable them to protect the safety of SSA employees and customers, the security of the SSA workplace, the operation of SSA facilities, or

(b) to assist investigations or prosecutions with respect to activities that affect such safety and security or activities that disrupt the operations of SSA facilities.

8. To contractors and other Federal agencies, as necessary, for the purpose of assisting SSA in the efficient administration of its programs. We disclose information under this routine use only in situations in which SSA may enter into a contractual or similar agreement with a third party to assist in accomplishing an agency function relating to this system of records.

9. To student volunteers, individuals working under a personal services contract, and other workers who technically do not have the status of Federal employees when they are performing work for SSA, as authorized by law, and they need access to personally identifiable information (PII) in SSA records in order to perform their assigned agency functions.

POLICIES AND PRACTICES FOR STORAGE OF RECORDS:

We will maintain records in this system in paper and electronic form.

POLICIES AND PRACTICES FOR RETRIEVAL OF RECORDS:

We will retrieve records by the names, SSN, and date of birth of applicants, recipients, or beneficiaries under Titles II, XVI, and XVIII of the Social Security Act.

POLICIES AND PRACTICES FOR RETENTION AND DISPOSAL OF RECORDS:

In accordance with the approved NARA rules codified at 36 CFR 1225.16, we maintain records in accordance with NARA General Records Schedule 4.2 Information Access and Protection Records, Item 130 Personally Identifiable Information Extracts. See https://www.archives.gov/files/records-mgmt/grs/grs04-2.pdf.

ADMINISTRATIVE, TECHNICAL, AND PHYSICAL SAFEGUARDS:

We retain electronic and paper files with personal identifiers in secure storage areas accessible only by our authorized employees and contractors who have a need for the information when performing their official duties. Security measures include the use of codes and profiles, personal identification number (PIN) and password, and personal identification verification cards. We further restrict the electronic records by the use of the PIN for only those employees who are authorized to access the system. We keep paper records in locked cabinets within secure areas, with access limited to only those employees who have an official need for access in order to perform their duties.

We annually provide our employees and contractors with appropriate security awareness training that includes reminders about the need to protect PII and the criminal penalties that apply to unauthorized access to, or disclosure of, PII (e.g., 5 U.S.C. 552a(i)(1)). Furthermore, employees and contractors with access to databases maintaining PII must sign a sanctions document annually, acknowledging their accountability for inappropriately accessing or disclosing such information.

RECORD ACCESS PROCEDURES:

Individuals may submit requests for information about whether this system contains a record about them by submitting a written request to the system manager at the above address, which includes their name, SSN, or other information that may be in this system of records that will identify them. Individuals requesting notification of, or access to, a record by mail must include (1) a notarized statement to us to verify their identity or (2) must certify in the request that they are the individual they claim to be and that they understand that the knowing and willful request for, or acquisition of, a record pertaining to another individual under false pretenses is a criminal offense.

Individuals requesting notification of, or access to, records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

These procedures are in accordance with our regulations at 20 CFR 401.40 and 401.45.

CONTESTING RECORD PROCEDURES:

Same as record access procedures. Individuals should also reasonably identify the record, specify the information they are contesting, and state the corrective action sought and the reasons for the correction with supporting justification showing how the record is incomplete, untimely, inaccurate, or irrelevant. These procedures are in accordance with our regulations at 20 CFR 401.65(a).

NOTIFICATION PROCEDURES:

Same as record access procedures. These procedures are in accordance with our regulations at 20 CFR 401.40 and 401.45.

EXEMPTIONS PROMULGATED FOR THE SYSTEM:

None.

HISTORY:

84 FR 9195, Travel and Border Crossing Records.

[FR Doc. 2021-04084 Filed 2-26-21; 8:45 am]

BILLING CODE 4191-02-P